DEPARTMENT OF ENERGY

Federal Energy Regulatory Commission

Notice of FERC Staff Attendance at the Louisiana Public Service Commission's Business and Executive Session Meeting

The Federal Energy Regulatory Commission hereby gives notice that members of its staff may attend the meeting noted below. Their attendance is part of the Commission's ongoing outreach efforts.

Louisiana Public Service Commission's Business and Executive Session Meeting

May 23, 2012 9:30 a.m.

This meeting will be held at the Lafayette Consolidated Government Building Council Auditorium, 705 West University Ave., Lafayette, LA 70506.

The discussions may address matters at issue in the following proceedings:

Docket No. OA07-32 | Entergy Services, Inc.
Docket No. EL00-66 | Louisiana Public Service Commission v. Entergy Services, Inc.
Docket No. EL01-88 | Louisiana Public Service Commission v. Entergy Services, Inc.
Docket No. EL08-51 | Louisiana Public Service Commission v. Entergy Services, Inc.
Docket No. EL08-60 | Ameren Services Co. v. Entergy Services, Inc.
Docket No. EL09-43 | Arkansas Public Service Commission v. Entergy Services, Inc.
Docket No. EL09-50 | Louisiana Public Service Commission v. Entergy Services, Inc.
Docket No. EL09-61 | Louisiana Public Service Commission v. Entergy Services, Inc.
Docket No. EL10-65 | Louisiana Public Service Commission v. Entergy Services, Inc.
Docket No. EL11-34 | Midwest Independent System Transmission Operator, Inc.
Docket No. EL11-63 | Louisiana Public Service Commission v. Entergy Services, Inc.
Docket No. ER05-1065 | Entergy Services, Inc.
Docket No. ER07-682 | Entergy Services, Inc.
Docket No. ER09-833 | Entergy Services, Inc.
Docket No. ER10-794 | Entergy Services, Inc.
Docket No. ER10-1350 | Entergy Services, Inc.
Docket No. ER10-1676 | Entergy Services, Inc.
Docket No. ER10-2001 | Entergy Arkansas, Inc.
Docket No. ER10-3357 | Entergy Arkansas, Inc.
Docket No. ER11-3156 | Entergy Arkansas, Inc.
Docket No. ER11-3657 | Entergy Arkansas, Inc.
Docket No. ER12-480 | Midwest Independent Transmission System Operator, Inc.
Docket No. ER12-1384 | Entergy Services, Inc.
Docket No. ER12-1385 | Entergy Services, Inc.
Docket No. ER12-1386 | Entergy Services, Inc.
Docket No. ER12-1387 | Entergy Services, Inc.
Docket No. ER12-1388 | Entergy Services, Inc.
Docket No. ER12-1390 | Entergy Services, Inc.

The meeting is open to the public.

For more information, contact Patrick Clarey, Office of Energy Market Regulation, Federal Energy Regulatory Commission at (317) 249-5937 or patrick.clarey@ferc.gov.

Dated: May 14, 2012.
Kimberly D. Bose,
Secretary.

[FR Doc. 2012-12072 Filed 5-17-12; 8:45 am]

BILLING CODE 6717-01-P